DEPARTMENT OF HEALTH AND HUMAN SERVICES

Office of Inspector General

Program Exclusions: November 2004

AGENCY: Office of Inspector General, HHS.

ACTION: Notice of program exclusions.

During the month of November 2004, the HHS Office of Inspector General imposed exclusions in the cases set forth below. When an exclusion is imposed, no program payment is made to anyone for any items or services(other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
AMERICAN MEDICAL PRODUCTS | 12/20/2004
SVCS, INC ORANGE PARK, FL
BAGDASARYAN, EMIN | 12/20/2004
LANCASTER, CA
BEAHAN, JACQUINA | 12/20/2004
W APPINGER FALLS, NY
BISHOP, SHARON | 12/20/2004
N BEND, OR
BOERNER, JANET | 12/20/2004
COLUMBUS, OH
CDC OF SOUTH FLORIDA | 12/20/2004
MIAMI, FL
CORPUS, VICKIE | 12/20/2004
KINGSBURG, CA
COSTALES, PHILIP | 12/20/2004
LONG BEACH, CA
CRAYFORD, WILLIAM | 12/20/2004
WHITINGHAM, VT
CUNNINGHAM, SHANNON | 12/20/2004
BILLINGS, MT
DOMINICK, JOANNE | 12/20/2004
KENT, WA
DORM, DWIGHT | 12/20/2004
YORK, PA
EARLY, CHRISTOPHER | 12/20/2004
HARRISBURG, PA
EWA, JOSEPH | 12/20/2004
STATEN ISLAND, NY
FEDERICO, JOSEPH | 12/20/2004
MIDDLEBURG, FL
FIRST MED EMS, INC | 12/20/2004
ATLANTA, GA
FREMIN, LUKE | 12/20/2004
PLAQUEMINE, LA
GUERRERO-SAUSTEGUI, JAVIER | 12/20/2004
PETULUMA, CA
JACKSON, MICHAEL | 12/20/2004
AUBURN, AL
JR MICK, INC | 12/20/2004
TRENTON, NJ
KAMPURYAN, GEVORK | 12/20/2004
NORTH HOLLYWOOD, CA
KATZ, JAY | 12/20/2004
EGLIN, FL
KUKASH, MAJDI | 12/20/2004
GOLDSBORO, NC
LEMESHKO, IVAN | 12/20/2004
WOODBURN, OR
LEMESHKO, TAMARA | 12/20/2004
WOODBURN, OR
LEMESHKO, VLADIMIR | 12/20/2004
WOODBURN, OR
LITINSKY, IGOR | 12/20/2004
CALABASAS, CA
MASON, JACQUELINE | 12/20/2004
E CLEVELAND, OH
MILLER, JEREMY | 12/20/2004
COLUMBUS, OH
MILLER, ROBERT | 2/9/2001
MANSFIELD, TX
MITCHELL, STEPHANIE | 12/20/2004
ELIZABETH CITY, NC
MORRIS, MINDY | 12/20/2004
COLUMBUS, OH
NOMANIM, DAVID | 12/20/2004
WOODLAND HILLS, CA
OANI, LEIA-LEI | 12/20/2004
SANTA MARIA, CA
PEARCE, MITCHELL | 12/20/2004
BROOKLYN, NY
PETERSDORF, MICHAEL | 12/20/2004
SANTA BARBARA, CA
PRAKASH, A V | 2/10/2003
BIG SPRING, TX
QUICK, DAVID | 12/20/2004
ORANGEBURG, SC
RAMIREZ, MARIA | 12/20/2004
LYNWOOD, CA
REQUILAM, CAROLINA | 12/20/2004
CARSON, CA
ROBINSON, CARLTON | 12/20/2004
ATLANTA, GA
RODRIGUEZ, MARILYN | 12/20/2004
COLEMAN, FL
SHIERY, JULIE | 12/20/2004
WOODLAND HILLS, CA
SILVA, IVAN | 12/20/2004
SONOMA, CA
SMALLS, CHRISTINA | 12/20/2004
MIAMI, FL
SOLIS, MELINDA | 12/20/2004
FRESNO, CA
SPILLER, SANDRA | 12/20/2004
COLUMBIA, CA
STAVCO, INC | 12/20/2004
TRENTON, NJ
STOCKFORD, PENNY | 12/20/2004
ORLANDO, FL
SUTHERLAND, DEBORAH | 12/20/2004
TALLAHASSEE, FL
SZILVAGYI, DAVID | 12/20/2004
BRADFORD, PA
SZILVAGYI, ELENA | 12/20/2004
LEXINGTON, KY
T & N PHARMACEUTICAL CO, INC | 12/20/2004
MAPLEWOOD, NJ
VENTURA, GILBERTO | 12/20/2004
BOYES HOT SPRINGS, CA
WIESEMANN, RICHARD | 12/20/2004
HAMILTON, MT
WILLIAMS, AKINTOLA | 12/20/2004
ATLANTA, GA
WINKY, INC | 12/20/2004
WALL, NJ
ZIMMERMAN, AMY | 12/20/2004
MANSFIELD, OH
FELONY CONVICTION FOR HEALTH CARE FRAUD
BARGER, MELISSA | 12/20/2004
ENGLEWOOD, OH
CHIA, DIANE | 12/20/2004
CINCINNATI, OH
DANIELS, SUSAN | 12/20/2004
BURLINGTON, VT
DEGUZMAN, FITZ | 12/20/2004
NAPA, CA
DUMONT, BEVERLY | 12/20/2004
SNOW, OK
JOHNSON, BILLIE | 12/20/2004
MONICKS CORNER, SC
KELLEY, MARY | 12/20/2004
HUNTSVILLE, AL
KREISMAN, MARCIA | 12/20/2004
NORTH BERGEN, NJ
MITCHELL, AMY | 12/20/2004
ROANOKE, AL
MOSES, KEVIN | 12/20/2004
CLEVELAND, OH
POSNER, RUSSELL | 12/20/2004
MONTGOMERY, AL
RIDDELL, JASON | 12/20/2004
TAMPA, FL
SMALLEY, VICKI | 12/20/2004
SALEM, OR
WEAVER, KATHY | 12/20/2004
CHILLICOTHE, OH
FELONY CONTROL SUBSTANCE CONVICTION
ALERRE, RICARDO | 12/20/2004
MURRELLS INLET, SC
BORDEAUX, DEBORAH | 12/20/2004
FLORENCE, SC
BROWN, RICHARD | 12/20/2004
STRAFFORD, PA
CRAIG, MARTHA | 12/20/2004
SPRINGFIELD, IL
CUTRIGHT, LORI | 12/20/2004
CLEARWATER, FL
DEVLIN, THOMAS | 12/20/2004
GOLDSBORO, NC
ECK, HEATHER | 12/20/2004
SALT LAKE CITY, UT
HALL, DUDLEY | 12/20/2004
NEW YORK, NY
HASKELL, DAVID | 12/20/2004
MIDLAND, TX
MCCLAIN, JEFFREY | 12/20/2004
LONOKE, AR
SPARKS, KATHLEEN | 12/20/2004
BILLINGS, MT
WERTHEIM, HOWARD | 12/20/2004
HACKETTSTOWN, NJ
ZOOBI, MUHAMAD | 12/20/2004
FOREST HILLS, NY
PATIENT ABUSE / NEGLECT CONVICTIONS
ARROWOOD, JOYCE | 12/20/2004
COLUMBIA, MO
CORTEZ, JUAN | 12/20/2004
FORT WORTH, TX
DAVIS, DAVID | 12/20/2004
SAN MATEO, CA
DEY, SUBRATA | 12/20/2004
WHITESBURG, KY
FAINA, ROYCE | 12/20/2004
LARAMIE, WY
GEIGER, CLETUS | 12/20/2004
NORTH PORT, FL
HAWKS, PAUL | 12/20/2004
DAYTON, WA
HELMS, RALPH | 12/20/2004
SACRAMENTO, CA
HILL, TAMEKA | 12/20/2004
TUSCALOOSA, AL
JENNER, ALLEN | 12/20/2004
OGDENSBURG, NY
JUAREZ, SILVERIA | 12/20/2004
FRESNO, CA
LAMPHEAR, DENISE | 12/20/2004
LARGO, FL
LANGEVIN, CARMILLA | 12/20/2004
HELENA, MT
LUCAS, GAROLD | 12/20/2004
YREKA, CA
MARTINEZ, SARA | 12/20/2004
MIAMI SPRINGS, FL
MCGOLDRICK, VANESSA | 12/20/2004
NORMAN, OK
MCKNIGHT, KAREN | 12/20/2004
SHREVEPORT, LA
MELLOTT, BRADLY | 12/20/2004
NAPOLEON, OH
PIERCE, SUSAN | 12/20/2004
WINDSOR, VT
POULLARD, BRANDY | 12/20/2004
VINTON, LA
SABEROLA, HARREL | 12/20/2004
BALDWIN PARK, CA
TOMASO, MARY | 12/20/2004
ALBANY, NY
TURNER, ROBERT W | 12/20/2004
JORDAN, UT
WAFFER, JACQUELINE | 12/20/2004
SHREVEPORT, LA
WALDEN, RAYMOND | 12/20/2004
SOUTH CHARLESTON, WV
WALLER, MARSHA | 12/20/2004
MARKSVILLE, LA
WILLIAMS, MONA | 12/20/2004
SYRACUSE, NY
CONVICTION FOR HEALTH CARE FRAUD
CHURCH, MELISSA | 12/20/2004
FRESNO, CA
HERNANDEZ, MICHELLE | 12/20/2004
SAN ANGELO, TX
MAGANA, ANGEL | 12/20/2004
PECOS, TX
PHILLIPS, RANDALL | 8/27/2004
FLORENCE, CO
RIVERA, ROBERT | 12/20/2004
THREE RIVERS, TX
CONTROLLED SUBSTANCE CONVICTIONS
WEEDMAN, CATHY | 12/20/2004
CHATTANOOGA, TN
LICENSE REVOCATION / SUSPENSION/SURRENDERED
ALBERTSON, ANNETTE | 12/20/2004
HEBRON, KY
ALLEN, VICKI | 12/20/2004
LAS VEGAS, NV
AMOS, RENE | 12/20/2004
GLENWOOD, IL
APPEL, LAWRENCE | 12/20/2004
RANDALLSTOWN, MD
ARLEDGE, STACY | 12/20/2004
GADSDEN, AL
ASHBURN, TIMOTHY | 12/20/2004
GAITHERSBURG, MD
AVERHART, AARON | 12/20/2004
FT MYERS, FL
BACCELLI, ANGELA | 12/20/2004
SUSANVILLE, CA
BANUELOS, MARTHA | 12/20/2004
BUENA PARK, CA
BARNES, LINDA | 12/20/2004
DEMOPOLIS, AL
BARNETT, MELANEY | 12/20/2004
WINSTON-SALEM, NC
BATISTE, SHARON | 12/20/2004
TACOMA, WA
BAX, DEBORAH | 12/20/2004
CLEARWATER, FL
BAZZANO, NORA | 12/20/2004
MIAMI, FL
BELL, SHERRI | 12/20/2004
CANTON, IL
BENIS, DAVID | 12/20/2004
JERSEY SHORE, PA
BENNETT, JUDITH | 12/20/2004
NASHUA, NH
BERRY, CHRISTY | 12/20/2004
HOUSTON, TX
BESS, ROBERT | 12/20/2004
JOHNSON CITY, TN
BIRNEY, SCOTT | 12/20/2004
DREXEL HILL, PA
BOWEN, GINA | 12/20/2004
GREENACRES, WA
BOYD, GREGORY
MARY ESTER, FL | 12/20/2004
BROKAW, RHONDA | 12/20/2004
BELLVILLE, OH
BROOKS, RUTH | 12/20/2004
HELENA, AL
BROTHERS, JEFFREY | 12/20/2004
CENTRAL CITY, KY
BROWN, GAIL | 12/20/2004
WINSTON-SALEM, NC
BROWN, JAMES | 12/20/2004
MEMPHIS, TN
BRYARS, SUSAN | 12/20/2004
BAY MINETTE, AL
BUGGS, DAVID | 12/20/2004
TAMPA, FL
BURKE, BARBARA | 12/20/2004
HOUSTON, TX
BUTLER, MARK | 12/20/2004
RIVERSIDE, IL
CANOY, VIVIAN | 12/20/2004
JACKSON, LA
CASSIDY, DANIELLA | 12/20/2004
BROWNSVILLE, KY
CHAMBERLIN, ANNE | 12/20/2004
SPOKANE, WA
CHANDLER, MATTHEW | 12/20/2004
RICHARDSON, TX
CHARLES, MARIE | 12/20/2004
LAKE WORTH, FL
CHAVEZ, CHRISTOPHER | 12/20/2004
PHOENIX, AZ
CLARK, LORI | 12/20/2004
LEHIGH ACRES, FL
CLIFFORD, STEVEN | 12/20/2004
CARNELIAN BAY, CA
COHEN, ALAN | 12/20/2004
WESTON, MA
COHEN, MARIANNE | 12/20/2004
HENDERSON, NV
COLBY, DEBRA | 12/20/2004
E TAUNTON, MA
COLE-HICKMAN, THOMAS | 12/20/2004
PHOENIX, AZ
COLLINS, JOAN | 12/20/2004
SAN DIEGO, CA
COLVIN, MELISSA | 12/20/2004
SPRINGFIELD, IL
CONNER, JAMES | 12/20/2004
CALLAHAN, FL
CONNER, STACY | 12/20/2004
RENTON, WA
COOLEY, BRIAN | 12/20/2004
CLARKSVILLE, FL
COPPARINI, TINA | 12/20/2004
MANSFIELD, MA
CORLEY, JAMIE | 12/20/2004
GADSDEN, AL
COX, BARBARA | 12/20/2004
WACO, TX
CRANE, KAREN | 12/20/2004
HOLLAND, OH
CURRY, JASON | 12/20/2004
AUSTIN, TX
CUSICK, KIMBERLY | 12/20/2004
MELBOURNE, FL
DELGADO, FELIX | 12/20/2004
MARGATE, FL
DEYOUNG, EDWARD | 12/20/2004
TUCSON, AZ
DOLL, LAUREN | 12/20/2004
HOUSTON, TX
DRUPKA, CHRISTINE | 12/20/2004
CHICAGO, IL
DUBOIS, KYLE | 12/20/2004
ALPINE, UT
DUDLEY, SHAWANA | 12/20/2004
TAMPA, FL
DUNHAM, STEVEN | 12/20/2004
MESA, AZ
EDIE, MICHELL | 12/20/2004
RENO, NV
EGERT, JANET | 12/20/2004
SAN JOSE, CA
ENNIS, VALERIE | 12/20/2004
GARNER, NC
FELDER, CHASTITY | 12/20/2004
MONTGOMERY, AL
FISHER, BEVERLY | 12/20/2004
LOUISVILLE, KY
FOSMORE-BADR, NITA | 12/20/2004
WESTBOROUGH, MA
FRENCH, KATHRYN | 12/20/2004
WADDELL, AZ
GARCIA, ETHEL | 12/20/2004
PHOENIX, AZ
GARDNER, PETER | 12/20/2004
NASHVILLE, TN
GENTILE, DANIEL | 12/20/2004
PENN VALLEY, CA
GILLAND, SHEILA | 12/20/2004
ARDEN, NC
GIVENS, TERESA | 12/20/2004
LINCOLN, IL
GLOVER, VICKIE | 12/20/2004
BOWLING GREEN, KY
GRAFFUIS, MARIA | 12/20/2004
APOPKA, FL
GRAUER, LOUIS | 12/20/2004
MIAMI BEACH, FL
GRAVELLE, RANDY | 12/20/2004
LOS ANGELES, CA
GRIEL, DOLORES | 12/20/2004
SHELBURNE FALLS, MA
GUERLINE, JULIO | 12/20/2004
LEHIGH ACRES, FL
GUEST, REBECCA | 12/20/2004
FAIRFIELD, AL
HABERMAN, ARTHUR | 12/20/2004
UPLAND, CA
HALL, DENISE | 12/20/2004
BARDSTOWN, KY
HALLMARK, FERRIS | 12/20/2004
FAIRFIELD GLADE, TN
HAZZARD, JENELLE | 12/20/2004
LEWISTOWN, IL
HERT, JAMES | 12/20/2004
ARLINGTON, TX
HOLGIN, RICHARD | 12/20/2004
AUSTIN, TX
HOLSTON, JONNA | 12/20/2004
KERNERSVILLE, NC
HOOD, GLORIA | 12/20/2004
GOODYEAR, AZ
HORN, TONY | 12/20/2004
DES MOINES, WA
HUBBARD, RITA | 12/20/2004
LONDON, KY
HUNT, MARLA | 12/20/2004
LEE, FL
HUNTER, ALFRED | 12/20/2004
CINCINNATI, OH
HUPPERTZ, ANNA | 12/20/2004
CRESCENT SPRINGS, KY
JACKSON, MICHELE | 12/20/2004
NORTH PORT, FL
JARMAN, SANDRA | 12/20/2004
FLORENCE, KY
JOHNSON, MICHELLE | 12/20/2004
LYNN, MA
JOHNSON, TAMMIE | 12/20/2004
BIRMINGHAM, AL
JONES, DANA | 12/20/2004
PADUCAH, KY
JURS, JUDY | 12/20/2004
ROGERS, AR
KEENAN, ELIZABETH | 12/20/2004
SUMMERFIELD, FL
KENTZ, PATRICIA | 12/20/2004
RESTON, VA
KEY, ANNA | 12/20/2004
ASHLAND, KY
LAMBERT, RONALD | 12/20/2004
BOULDER, CO
LAWRENCE, JULIE | 12/20/2004
MALONE, FL
LAWRENCE, SUSAN | 12/20/2004
EVANSVILLE, IN
LAWSON, LINDA | 12/20/2004
PORT CLINTON, OH
LEGG, SANDRA | 12/20/2004
JOHNSON CITY, TN
LEVY, YVONNE | 12/20/2004
PIKEVILLE, KY
LIPOVSIK, LORI | 12/20/2004
MCKEES ROCKS, PA
LLOYD, LINDSEY | 12/20/2004
JACKSONVILLE, FL
LOUCHART, JULIA | 12/20/2004
EAST STROUDSBURG, PA
LUNDY, CLARENCE | 12/20/2004
THEODORE, AL
MADDOX, ALBERT | 12/20/2004
ATLANTA, GA
MAHER, SHARON | 12/20/2004
SELAH, WA
MANIS, BRISA | 12/20/2004
SCOTTSDALE, AZ
MARTIN, JOEY | 12/20/2004
HUGHES SPRINGS, TX
MAUNEY, DEBRA | 12/20/2004
COLUMBIA, SC
MAZZEO-WHITE, SUNNY | 12/20/2004
BOYNTON BEACH, FL
MCCANN, LAURAN | 12/20/2004
HOUSTON, TX
MCCORMICK, JOHN | 12/20/2004
ORLANDO, FL
MCDOWELL, LANA | 12/20/2004
LAFOLLETTE, TN
MERILLAT, SUZANNE | 12/20/2004
SILVER SPRINGS, MD
MIKESELL, STACEY | 12/20/2004
NEWTON, MA
MILEY, VALERIE | 12/20/2004
REHRERSBURG, PA
MILLER, DOUGLAS | 12/20/2004
RINGGOLD, GA
MINGIS, LISA | 12/20/2004
LOUISVILLE, KY
MOORE, CONNIE | 12/20/2004
CONROE, TX
MORELAND, JOANN | 12/20/2004
FROST, TX
MULLINS, STEPHANIE | 12/20/2004
BONNYMAN, KY
MURPHY, PAULA | 12/20/2004
TACOMA, WA
NESBY, ROBERTA | 12/20/2004
FEDERAL WAY, WA
NIELSON, ROBERT | 12/20/2004
MESA, AZ
NONATO, RONALD | 12/20/2004
ANAHEIM, CA
NURI, MAJDIAN | 12/20/2004
LAGUNA HILLS, CA
O'RIORDAN, KAREN | 12/20/2004
BOYNTON BEACH, FL
ODOM, ELIZABETH | 12/20/2004
DURANT, OK
PARNELLO, DEBRA | 12/20/2004
ROCKFORD, IL
PAVAI, TONI | 12/20/2004
MORRISTOWN, FL
PAYNE, KATHY | 12/20/2004
OWENSBORO, KY
PAYNE, STEPHANIE | 12/20/2004
OWENSBORO, KY
PITTS, ELENA | 12/20/2004
BAKERSFIELD, CA
POWELL, CAREY | 12/20/2004
MOUNT STERLING, KY
PRATT, KAREN | 12/20/2004
WASHINGTON, PA
READ, CHERYL | 12/20/2004
POMONA, CA
REAM, STEPHANIE | 12/20/2004
YORK, PA
RIZZO, JANET | 12/20/2004
ENGLEWOOD, FL
ROBERSON, MARIA | 12/20/2004
BELMAR, NJ
ROBERTS, KRISTI | 12/20/2004
SHELBYVILLE, KY
ROBERTSON, DEBORAH | 12/20/2004
MIAMISBURG, OH
ROJCEWICZ, JUDITH | 12/20/2004
WESTMINSTER, MA
ROWTON, KAREN | 12/20/2004
AUSTIN, TX
RUNES, VALERIE | 12/20/2004
ARLINGTON HEIGHTS, IL
RUONA, LUANNE | 12/20/2004
ALEXANDRIA, VA
RUSSELL, DEBORAH | 12/20/2004
GEORGETOWN, IL
SALAHADEEN, AQUILA | 12/20/2004
EAST CLEVELAND, OH
SEBREE, CLARA | 12/20/2004
OWENSBORO, KY
SEPLOW, ELIZABETH | 12/20/2004
N MIAMI, FL
SERRANILLA, HERMINIA | 12/20/2004
ANAHEIM, CA
SICHEL, DEBORAH | 12/20/2004
NEWTON, MA
SICKORA, MARK | 12/20/2004
CHAMPION, PA
SILBERSTEIN, JAN | 12/20/2004
EAST HARTFORD, CT
SILVA, FAITH | 12/20/2004
GLOUCESTER, MA
SIMON, JUNIOR | 12/20/2004
CAPE CORAL, FL
SMITH, JAMES | 12/20/2004
CLEARWATER, FL
SNOW, ANGIE | 12/20/2004
MEDWAY, MA
SPIRES, LISA | 12/20/2004
TUSCUMBIA, AL
STEELE, IRIS | 12/20/2004
AMORY, MO
STEWART, JANICE | 12/20/2004
NEWPORT, TN
STILLMAN, SPRING | 12/20/2004
ORLANDO, FL
STONE, NATASHA | 12/20/2004
CAPE CANAVERAL, FL
STONEBERG, JEREMIAH | 12/20/2004
TUCSON, AZ
STROUD, LYNETTA | 12/20/2004
RADCLIFF, KY
STURGILL, CHRISTIANNE | 12/20/2004
STUART, FL
SUKI SPA, INC | 12/20/2004
PALM HARBOR, FL
SWINDLE, DANA | 12/20/2004
W RICHLAND, WA
TANAEL, RICARDO | 12/20/2004
VALLEJO, CA
TARAN, RICHARD | 12/20/2004
BRENTWOOD, TN
THOMAS, BELINDA | 12/20/2004
TAMARAC, FL
TORRES, DORA | 12/20/2004
SAN RAFAEL, CA
TURNER, RICHARD | 12/20/2004
SEQUIM, WA
UNDERWOOD, DAWANNA | 12/20/2004
LOUISVILLE, KY
VANCE, MARY | 12/20/2004
PELL CITY, AL
WALLACE, ETHEL | 12/20/2004
ASHLAND, KY
WARREN, THERESA | 12/20/2004
TAMPA, FL
WEST, ANNIE | 12/20/2004
TUSCALOOSA, AL
WHITE, VICTORIA | 12/20/2004
WEST WYOMING, PA
WIATER, MICHAEL | 12/20/2004
OAK GROVE, KY
WILDMAN, TRACIE | 12/20/2004
BRADENTON, FL
WOODS, FREDERICK | 12/20/2004
EUCLID, OH
FEDERAL / STATE EXCLUSION / SUSPENSION
ROGERS, JUDY | 12/20/2004
RYE, NH
ROGERS, WILLIAM | 12/20/2004
RYE, NH
FRAUD / KICKBACKS / PROHIBITED ACTS / SETTLEMENT AGREEMENTS
CHARLESTON SPEECH AND HEARING | 5/14/2004
N CHARLESTON, SC
WATTS, ROBERT | 5/14/2004
N CHARLESTON, SC
OWNED / CONTROLLED BY CONVICTED ENTITIES
CLINICAL SOLUTIONS OF SOUTH FLORIDA | 12/20/2004
PEMBROKE PINES, FL
DAVID WAYNE ENTERPRISE, INC | 12/20/2004
MIAMI BEACH, FL
DENTAL HEALTH CLINIC, INC | 12/20/2004
HIALEAH, FL
HEALTHY SMILE DENTISTRY, INC | 12/20/2004
MIAMI LAKES, FL
HIALEAH DME, INC | 12/20/2004
HIALEAH, FL
HIGH TECH MEDICAL CENTER | 12/20/2004
MIAMI SPRINGS, FL
IMAGINE CONSULTING SERVICES, INC | 12/20/2004
MIAMI BEACH, FL
K & F SERVICES, CORP | 12/20/2004
RED LION, PA
PALM BCH SPORTS MEDICINE ASSOC | 12/20/2004
BOYNTON BEACH, FL
RUSSELL M POSNER, DC, PA | 12/20/2004
MONTGOMERY, AL
SOUTHEAST RESPIRATORY CARE, INC | 12/20/2004
MIAMI, FL
UNITY HOME HEALTH CARE AND OXYGEN | 12/20/2004
HAMILTON, MT
DEFAULT ON HEAL LOAN
BOYKO, JOHN | 12/20/2004
FULLERTON, CA
BYRNS, DESIREA | 12/20/2004
FORT MYERS, FL
GREENO, VINCENT | 12/20/2004
READING, MA
LOPEZ, ROBERTO | 12/20/2004
SEASIDE, CA
RAMIREZ, RICHARD | 10/20/2004
HOUSTON, TX
SOMMERFELD, KURT | 12/20/2004
NEW CASTLE, PA
WALKER, ROBERT | 12/20/2004
LANSING, MI

Dated: December 1, 2004.
Katherine B. Petrowski,
Director, Exclusions Staff, Office of Inspector General.

[FR Doc. 04-27647 Filed 12-16-04; 8:45 am]

BILLING CODE 4150-04-P